DEPARTMENT OF DEFENSE

Office of the Secretary

Membership of the Office of the Secretary of Defense Performance Review Board

AGENCY: Department of Defense.

ACTION: Notice.

This notice announces the appointment of the members of the Performance Review Board (PRB) of the Office of the Secretary of Defense, the Joint staff, the U.S. Mission to the North Atlantic Treaty Organization, the Defense Advance Research Projects Agency, the Defense Commissary Agency, the Defense Security Service, the Defense Security Assistance Agency, the Missile Defense Agency, the Defense Field Activities and the U.S. Court of Appeals of the Armed Forces. The publication of PRB membership is required by 5 U.S.C. 4314(c)(4).

The Performance Review Board (PRB) provides fair and impartial review of Senior Executive Service performance appraisals and makes recommendations regarding performance ratings and performance awards to the Secretary of Defense.

EFFECTIVE DATES: October 27, 2006.

FOR FURTHER INFORMATION CONTACT: Sandra Burrell, Executive and Political Personnel Division, Directorate for Personnel and Security, Washington Headquarters Services, Office of the Secretary of Defense, Department of Defense, The Pentagon, (703) 693-8347.

SUPPLEMENTARY INFORMATION: In accordance with 5 U.S.C. 4314(c)(4), the following executives are appointed to the office of the Secretary of Defense PRB: specific PRB panel assignments will be made from this group. Executives listed will serve a one-year renewable term, effective October 27, 2006.

Office of the Secretary of Defense

Chairperson: Nancy Spruill

Robert Nemetz, Mike Kern, Mary George, Cheryl Roby, Robert Newberry, David Pauling, William Lowry, Anne O'Connor, Thomas Kuster, Paul Koffsky, Joseph Nogueira, Frank Anderson, Joseph Angello, David Epstein, Eric Coulter, Jeanne Fites, Dennis Clem, Ellen Embrey, James Russell, Joyce France, Jennifer Buck, Tom Lavery, Bruce Bade, Ken Handelman, Alan Liotta, Bob Salesses, Todd Harvey.

Dated: October 24, 2006.
C.R. Choate,
Alternate OSD Federal Register Liaison Officer, Department of Defense.

[FR Doc. 06-8970 Filed 10-30-06; 8:45 am]

BILLING CODE 5001-06-M